SURFACE TRANSPORTATION BOARD

[Docket No. FD 36688]

Green Mountain Railroad Corporation—Trackage Rights Exemption—New England Central Railroad, Inc.

Green Mountain Railroad Corporation (GMRC) has filed a verified notice of exemption under 49 CFR 1180.2(d)(7) for acquisition of overhead trackage rights over approximately 61.4 miles of rail line owned by New England Central Railroad, Inc. (NECR), between milepost 14.46 at White River Junction, Vt., and milepost 99.0 at Millers Falls, Mass. (the Line).¹

¹ GMRC notes that, due to the Line's history, the mileposts are not indicative of the Line's total route miles and the stated distance is accurate although the mileposts could suggest otherwise.

GMRC and NECR have entered into a written trackage rights agreement ² that grants GMRC overhead trackage rights over the Line. Those rights allow GMRC to enter and exit the Line at certain intermediate points as well as its terminal points, as described in the verified notice. GMRC states that the trackage rights are among settlement terms that the Board imposed “as a condition of the Board's approval” in CSX Corp.—Control & Merger—Pan Am Systems, Inc., FD 36472 et al., (STB served Apr. 14, 2022).

² A redacted version of the trackage rights agreement between GMRC and NECR was filed with the verified notice. An unredacted version of the agreement was submitted to the Board under seal concurrently with a motion for protective order, which is addressed in a separate decision.

The transaction may be consummated on or after April 27, 2023, the effective date of the exemption.

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed no later than April 20, 2023 (at least seven days before the exemption becomes effective).

All pleadings, referring to Docket No. FD 36688, must be filed with the Surface Transportation Board via e-filing on the Board's website or in writing addressed to 395 E Street SW, Washington, DC 20423-0001. In addition, a copy of each pleading must be served on GMRC's representative, Robert A. Wimbish, Fletcher & Sippel LLC, 29 North Wacker Drive, Suite 800, Chicago, IL 60606.

According to GMRC, this action is categorically excluded from environmental review under 49 CFR 1105.6(c) and from historic preservation reporting requirements under 49 CFR 1105.8(b).

Board decisions and notices are available at www.stb.gov.

Decided: April 7, 2023.
By the Board, Mai T. Dinh, Director, Office of Proceedings.
Kenyatta Clay,
Clearance Clerk.

[FR Doc. 2023-07721 Filed 4-12-23; 8:45 am]

BILLING CODE 4915-01-P